DEPARTMENT OF HEALTH AND HUMAN SERVICES

Centers for Disease Control and Prevention

[30 Day-13-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Housing and Health Study—New—National Center for HIV, STD, and TB Prevention (NCHSTP), Centers for Disease Control and Prevention (CDC). CDC is requesting OMB approval to conduct a study to examine the impact of providing housing for homeless or unstably housed people (people who are in temporary housing programs or doubled up with others) while living with HIV.

This project includes a unique collaboration with the Department of Housing and Urban Development (HUD). HUD is providing funding for housing vouchers for study participants. CDC will use the results of the data collection to inform policy makers about the types of housing and other affiliated services most likely to reduce HIV transmission and disease progression in the homeless population.

The population to be studied will be drawn from persons living with HIV/AIDS who are seeking housing services from three communities with unmet housing needs. These needs are evidenced by a waiting list for services, or other evidence of unmet housing need through the Housing Opportunities for Persons with AIDS (HOPWA) program. The project will be a longitudinal cohort study, following participants for 18 months. Participants will be randomized into two groups. One group will receive vouchers for housing subsidies plus a 2-session behavioral intervention; the other group will receive referral to housing resources through participating agencies and other agencies plus the 2-session behavioral intervention. No study participants will be denied access to other housing services that are available through participating agencies or other community resources.

Since, all participants receive the behavioral intervention, the study technically assesses the effects of housing over and above the behavioral intervention. A cost study will also be conducted to determine the resources needed for this approach and the cost benefits of providing housing for homeless and unstably housed people living with HIV. The purpose of the cost study is to evaluate the effects of housing affordability and the cost-effectiveness (i.e. cost-utility ratio) of this strategy relative to other interventions in other public health and other HIV prevention interventions.

Study participants will be surveyed at the beginning of the project (baseline) and at 6, 12, and 18 months after baseline. HUD site service providers will also be surveyed. Blood samples for CD4 and viral load counts will also be collected for all participants. The annualized burden for this data collection is 6,030 hours.

Respondents | Number of respondents | Responses per respondent | Average burden per response (in hours)
HOPWA Program Participants | 1,000 | 4 | 1.5
HUD Site Service Providers | 15 | 1 | 2

Dated: December 22, 2003.
Ron Ergle,
Director, Management Analysis and Services Office, Centers for Disease Control and Prevention.

[FR Doc. 03-32165 Filed 12-30-03; 8:45 am]

BILLING CODE 4163-18-P